FEDERAL RETIREMENT THRIFT INVESTMENT BOARD

Employee Thrift Advisory Council

Time and Date: 10 a.m. (EST) April 22, 2009.

Place: 4th Floor, Conference Room, 1250 H Street, NW., Washington, DC.

Status: Open.

Matters to be Considered: 1. Approval of the minutes of the February 4, 2009 meeting.

2. Report of the Executive Director.

3. Discussion of legislative proposals.

4. New business.

Contact Person for More Information: Thomas K. Emswiler, Committee Management Officer, (202) 942-1660.

Dated: April 15, 2009.
Thomas K. Emswiler,
General Counsel, Federal Retirement Thrift Investment Board.

[FR Doc. E9-9047 Filed 4-15-09; 4:15 pm]

BILLING CODE P